DEPARTMENT OF THE INTERIOR

Fish and Wildlife Service

[FWS-R6-R-2011-N014]; 60138-1265-6CCP-S3]

San Luis Valley National Wildlife Refuge Complex, Alamosa, CO; Comprehensive Conservation Plan and Environmental Impact Statement

AGENCY: Fish and Wildlife Service, Interior.

ACTION: Notice of intent; request for comments.

SUMMARY: We, the U.S. Fish and Wildlife Service (Service), intend to prepare a Comprehensive Conservation Plan (CCP) and an Environmental Impact Statement (EIS) for the San Luis Valley National Wildlife Refuge Complex (Complex) in Alamosa, Colorado. The Complex comprises Baca, Monte Vista, and Alamosa National Wildlife Refuges (NWRs).We provide this notice in compliance with our CCP policy to advise other Federal and State agencies, Tribes, and the public of our intentions, and to obtain suggestions and information on the scope of issues to consider in the planning process.

DATES: To ensure consideration, please send your written comments by April 29, 2011. Submit comments by one of the methods under ADDRESSES. We will announce opportunities for public input in local news media throughout the CCP process.

ADDRESSES: Send your comments or requests for more information by any of the following methods.

E-mail: SLVrefuges@fws.gov. Include “San Luis Valley National Wildlife Refuge Complex CCP” in the subject line of the message.

Fax: Attn: Laurie Shannon, Planning Team Leader, 303/236-4792.

U.S. Mail: Laurie Shannon, Planning Team Leader, Division of Refuge Planning, P.O. Box 25486, Denver, CO 80225-0486.

In-Person Drop-off: You may drop off comments during regular business hours at the above address, or at the San Luis Valley National Wildlife Refuge Complex administrative office located at 8249 Emperius Road, Alamosa, CO 81101.

FOR FURTHER INFORMATION CONTACT: Laurie Shannon, 303/236-4317 (phone) or laurie_shannon@fws.gov (e-mail); or David C. Lucas, Chief, Division of Planning, 303/236-4366 (phone), P.O. Box 25486, Denver Federal Center, Denver, CO 80225-0486.

SUPPLEMENTARY INFORMATION:

Introduction

With this notice, we initiate our process for developing a CCP for the San Luis Valley National Wildlife Refuge Complex in Alamosa, CO. This notice complies with our CCP policy to (1) advise other Federal and State agencies, Tribes, and the public of our intention to conduct detailed planning on this refuge and (2) to obtain suggestions and information on the scope of issues to consider in the environmental document and during development of the CCP.

Background

The CCP Process

The National Wildlife Refuge System Administration Act of 1966, as amended (16 U.S.C. 668dd-668ee) (Administration Act) by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including, where appropriate, opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS and to determine how the public can use each refuge. The planning process is a way for us and the public to evaluate management goals and objectives that will ensure the best possible approach to wildlife, plant, and habitat conservation, while providing for wildlife-dependent recreation opportunities that are compatible with each refuge's establishing purposes and the mission of the NWRS.

Our CCP process provides participation opportunities for Tribal, State, and local governments; agencies; organizations; and the public. At this time we encourage input in the form of issues, concerns, ideas, and suggestions for the future management of the San Luis Valley National Wildlife Refuge Complex.

We will conduct the environmental review of this project and develop an EIS in accordance with the requirements of the National Environmental Policy Act of 1969, as amended (NEPA) (42 U.S.C. 4321 et seq.); NEPA regulations (40 CFR parts 1500-1508 and 43 CFR part 46); other appropriate Federal laws and regulations; and our policies and procedures for compliance with those laws and regulations.

San Luis Valley National Wildlife Refuge Complex

The San Luis Valley National Wildlife Refuge Complex is composed of three national wildlife refuges (NWRs): Monte Vista, Alamosa, and Baca. These NWRs are located in the San Luis Valley, a high mountain basin located in Rio Grande, Alamosa, and Saguache Counties, Colorado. Monte Vista NWR, authorized in 1952, and Alamosa NWR, authorized in 1962, were set aside under the Migratory Bird Conservation Act (16 U.S.C. 715D) for “use as inviolate sanctuaries, or for any other management purpose, for migratory birds.” Baca NWR was authorized in 2000 with passage of Public Law 106-530, also known as the “Great Sand Dunes National Park and Preserve Act of 2000.” In 2008, Congress amended the act and established the purposes of the Baca NWR to “restore, enhance, and maintain wetland, upland, riparian, and other habitats for native wildlife, plant, and fish species in the San Luis Valley.” In administering the Baca NWR, the Service is required to the maximum extent practicable to emphasize migratory bird conservation; take into consideration the role of the refuge in broader landscape conservation efforts; and, subject to any other agreement or the purposes of the refuge, use decreed water rights on the refuge in approximately the same manner that the water rights have been used historically.

A wide variety of habitats are found across the three refuges, including wet meadows, playa wetlands, riparian areas within the flood plain of the Rio Grande, desert shrublands and grasslands, and croplands. Totaling about 106,000 acres, the refuges are an important stopover for numerous migratory birds. The refuges support many groups of nesting, migrating, and wintering birds, including grebes, herons, ibis, ducks, geese, hawks, eagles, falcons, shorebirds, owls, songbirds, and others. Nearly 20,000 sandhill cranes spend several weeks in the San Luis Valley during the spring and fall migrations, feeding and resting to replace critical fat reserves. Among the cranes that make a stopover are about 95 percent of the Rocky Mountain population of greater sandhill cranes and a portion of the midcontinent population of sandhill cranes. The Federally endangered southwestern willow flycatcher, a small neo-tropical bird species, is found fairly frequently in the willow-cottonwood corridor along the Rio Grande on Alamosa NWR. Additionally, there are several other Federal and State species of concern, including the Rio Grande sucker, Rio Grande chub, the Northern leopard frog, and other species that are found within or adjacent to the refuges. Many species of mammals also use the refuges, including elk, deer, coyote, porcupine, and other small mammals.

Scoping: Preliminary Issues, Concerns, and Opportunities

There are a number of issues, concerns, and opportunities for the San Luis Valley National Wildlife Refuge Complex. A few of these are briefly described.

Although Congress significantly expanded the Service's acquisition authority and subsequent management responsibilities in the San Luis Valley, to date, funding for operation of the Baca NWR has been limited. This has posed a number of challenges for the refuge staff in the management of refuge operations across the complex. The Service will identify ways to increase management efficiencies, prioritize, and look for creative solutions during the planning process.

Since the late 1980s, increasing numbers of elk have been using Monte Vista and Alamosa NWRs during the fall and winter months. Similarly, elk numbers on the Baca NWR and adjacent Federal and private lands have been an ongoing concern in the valley. The Colorado Division of Wildlife estimates the elk population in game management unit 82 to be about 5,000 elk. Generally this population travels between Baca NWR, neighboring National Park Service lands, and The Nature Conservancy lands, both inside and outside the authorized boundary of Baca NWR, along with other surrounding private lands and Federal lands. Although it is unclear to what extent biological carrying capacities are being reached or exceeded, there has been substantial impact occurring on riparian areas along with crop depredation on private lands. Many stakeholders agree that a coordinated approach is needed for elk management.

There has also been interest in the reintroduction of bison on Baca NWR. Whether the refuge could support free-roaming bison without negatively affecting other species will need to be evaluated and determined during the CCP process.

All the refuges were set aside largely for the protection of migratory birds; therefore water management has been an important tool in providing food and cover for birds. Climate change data is showing a pattern of decreasing precipitation and increasing temperatures in the San Luis Valley. This pattern may shift habitats, requiring greater flexibility in future land management of the refuges. Water management, including quantity, quality, and movement of water, is a complex issue that needs to be addressed.

The Service is also proposing to study the potential for a landscape-level strategic habitat conservation initiative within the Southern Rockies Landscape Conservation Cooperative, a network of partnerships working in unison to ensure the sustainability of America's land, water, wildlife and cultural resources. The study would analyze the potential protection of about 430,000 acres primarily through conservation easements and limited fee-title acquisition in the San Luis Valley.

We request input on these issues and other concerns affecting refuge management or public use during the planning process. We are especially interested in receiving public input in the following areas:

(a) What suggestions do you have for managing migratory birds on the refuges in the face of climate change and declining precipitation?

(b) What ideas do you have regarding visitor services and wildlife-dependent public uses on the refuges, particularly Baca NWR, which is currently closed to any public use?

(c) What changes, if any, would you like to see in the management of Alamosa and Monte Vista NWRs?

(d) What concerns do you have regarding the additional protection of wildlife and wetland habitat in the San Luis Valley? Can the use of conservation easements protect important wildlife resources in the valley?

(e) What concerns do you have regarding ungulate management on the refuges or the reintroduction of species such as bison?

We provide the above questions for your optional use. We have no requirement that you provide information; however, any comments the planning team receives will be used as part of the planning process.

Public Meetings

We will give the public an opportunity to provide input at a public meeting. You can obtain the schedule from the planning team leader (see ADDRESSES). We will announce opportunities for public input in local news media throughout the CCP process. You may also send comments anytime during the planning process by U.S. mail, e-mail, or fax (see ADDRESSES). There will be additional opportunities to provide public input once we have prepared a draft CCP.

Public Availability of Comments

Any comments we receive will become part of the administrative record and may be available to the public. Before submitting comments that include your address, phone number, e-mail address, or other personal identifying information, you should be aware that your entire comment, including your personal identifying information, may be made publicly available at any time. While you may ask us in your comment to withhold your personal identifying information from public review, we cannot guarantee that we will be able to do so.

Dated: February 15, 2011.
Noreen E. Walsh,
Deputy Regional Director, Mountain-Prairie Region, Denver, CO.

[FR Doc. 2011-5924 Filed 3-14-11; 8:45 am]

BILLING CODE 4310-55-P